DEPARTMENT OF ENERGY

Federal Energy Regulatory Commission

Notice of Effectiveness of Exempt Wholesale Generator Status

November 1, 2006.

CalPeak Power LLC | Docket No. EG06-68-000.
Spanish Ford Wind Park 2, LLC | Docket No. EG06-69-000.
Evergreen Wind Power, LLC | Docket No. EG06-71-000.
Mt. Tom Generating Company LLC | Docket No. EG06-72-000.
BG Dighton Power, LLC | Docket No. EG06-73-000.
FPL Energy Oliver Wind, LLC | Docket No. EG06-74-000.
Allegheny Ridge Wind Farm, LLC | Docket No. EG06-75-000.
Noble Clinton Windpark I, LLC | Docket No. EG06-76-000.
Noble Ellenburg Windpark, LLC | Docket No. EG06-77-000.
Noble Altona Windpark, LLC | Docket No. EG06-78-000.
Noble Bliss Windpark, LLC | Docket No. EG06-79-000.
Hawks Nest Hydro LLC | Docket No. EG06-80-000.

Take notice that during the month of October 2006, the status of the above-captioned entities as Exempt Wholesale Generators became effective by operation of the Commission's regulations. 18 CFR 366.7(a).

Magalie R. Salas,
Secretary.

[FR Doc. E6-18812 Filed 11-7-06; 8:45 am]

BILLING CODE 6717-01-P